DEPARTMENT OF COMMERCE

International Trade Administration

[A-570-912]

Certain New Pneumatic Off-the-Road Tires From the People's Republic of China: Notice of Partial Rescission of the Antidumping Duty Administrative Review; 2016-2017

AGENCY: Enforcement and Compliance, International Trade Administration, Department of Commerce.

SUMMARY: On November 13, 2017, the Department of Commerce (Commerce) initiated an administrative review of the antidumping duty order on certain new pneumatic off-the-road tires (OTR Tires) from the People's Republic of China (China) for three companies. Based on timely withdrawal of requests for review, we are now rescinding this administrative review with respect to two of these companies: Maxon Int'l Co., Limited (Maxon); and Tianjin Leviathan International Trade Co., Ltd. (Leviathan).

DATES: Applicable March 16, 2018.

FOR FURTHER INFORMATION CONTACT: Alex Rosen, AD/CVD Operations, Office III, Enforcement and Compliance, International Trade Administration, U.S. Department of Commerce, 1401 Constitution Avenue NW, Washington, DC 20230; telephone: (202) 482-7814.

SUPPLEMENTARY INFORMATION:

Background

On September 1, 2017, Commerce published a notice of opportunity to request an administrative review of the antidumping duty order on OTR Tires from China.¹ In September and October of 2017, Commerce received timely requests to conduct an administrative review of the antidumping duty order on OTR Tires from China.² Based on these requests, on November 13, 2017, in accordance with section 751(a) of the Tariff Act of 1930, as amended (the Act), Commerce published in the Federal Register a notice of initiation of an administrative review covering the period September 1, 2016, through August 31, 2017, with respect to three companies: Zhongwei, Maxon, and Leviathan.³ On January 12, 2018, and January 19, 2018, respectively, Leviathan ⁴ and Maxon ⁵ timely withdrew their requests for an administrative review.

¹ See Antidumping or Countervailing Duty Order, Finding, or Suspended Investigation; Opportunity to Request Administrative Review, 82 FR 41595 (September 1, 2017).

² See Maxon's letter, “Certain New Pneumatic Off-the-Road Tires from the People's Republic of China Request for Administrative Review,” dated September 25, 2017; Leviathan's letter, “New Pneumatic Off-the-Road Tires from the PRC: Request for Antidumping Administrative Review,” dated September 26, 2017; Zhongwei Rubber Co, Ltd.'s (Zhongwei), “New Pneumatic Off-the-Road Tires from the People s Republic of China: Request for Administrative Review,” dated October 2, 2017; and a letter from Super Grip Corporation, a U.S. importer of Zhongwei's subject merchandise, “New Pneumatic Off-The-Road Tires People s Republic of China Request for Administrative Review,” dated October 2, 2017, in which it requested an administrative review of Zhongwei.

³ See Initiation of Antidumping and Countervailing Duty Administrative Reviews, 82 FR 52272 (November 13, 2017).

⁴ See Letter from Leviathan, “New Pneumatic Off-the-Road Tires from the PRC: Withdrawal of Request for Review for Tianjin Leviathan International Trade Co., Ltd.” dated January 12, 2018.

⁵ See Letter from Maxon, “Certain New Pneumatic Off-The-Road Tires from the People's Republic of China: Withdrawal of Request for Administrative Review” dated January 19, 2018.

Partial Rescission

Pursuant to 19 CFR 351.213(d)(1), the Secretary will rescind an administrative review, in whole or in part, if a party who requested the review withdraws the request within 90 days of the date of publication of the notice of initiation of the requested review. Leviathan and Maxon timely withdrew their respective requests for an administrative review; no other party requested a review of these companies. Accordingly, we are rescinding this review, in part, with respect to these companies, pursuant to 19 CFR 351.213(d)(1).

Assessment

Commerce will instruct U.S. Customs and Border Protection (CBP) to assess antidumping duties on all appropriate entries. For Leviathan and Maxon, the companies for which this review is rescinded, antidumping duties shall be assessed at rates equal to the cash deposit of estimated antidumping duties required at the time of entry, or withdrawal from warehouse, for consumption, in accordance with 19 CFR 351.212(c)(1)(i). Commerce intends to issue appropriate assessment instructions to CBP 15 days after publication of this notice.

Notification to Importers

This notice serves as a reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of doubled antidumping duties.

Notification Regarding Administrative Protective Order

This notice serves as a final reminder to parties subject to an administrative protective order (APO) of their responsibility concerning the return or destruction of proprietary information disclosed under an APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: March 12, 2018.
James Maeder,
Associate Deputy Assistant Secretary for Antidumping and Countervailing Duty Operations performing the duties of Deputy Assistant Secretary for Antidumping and Countervailing Duty Operations.

[FR Doc. 2018-05374 Filed 3-15-18; 8:45 am]

BILLING CODE 3510-DS-P